DEPARTMENT OF THE TREASURY

Office of Foreign Assets Control

31 CFR Part 594

Publication of Global Terrorism Sanctions Regulations Web General Licenses 21A and 21B

AGENCY: Office of Foreign Assets Control, Treasury.

ACTION: Publication of web general license.

SUMMARY: The Department of the Treasury's Office of Foreign Assets Control (OFAC) is publishing two general licenses (GL) issued pursuant to the Global Terrorism Sanctions Regulations, GLs 21A and 21B, which of which was previously made available on OFAC's website.

DATES: GL 21A was issued on December 14, 2022. See SUPPLEMENTARY INFORMATION for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treas.gov/ofac.

Background

On December 14, 2022, OFAC issued GL 21A to authorize certain transactions otherwise prohibited by the Global Terrorism Sanctions Regulations, 31 CFR part 594. GL 21A superseded GL 21. Subsequently, OFAC issued one further iteration of GL 21: on January 13, 2023, OFAC issued GL 21B, which superseded GL 21A. Each GL was made available on OFAC's website (www.treas.gov/ofac). The text of GLs 21A and 21B are provided below.

Office of Foreign Assets Control

Global Terrorism Sanctions Regulations

31 CFR Part 594

General License No. 21A

Authorizing Limited Safety and Environmental Transactions Involving Certain Vessels

(a) Except as provided in paragraph (c) of this general license, all transactions that are ordinarily incident and necessary to one of the following activities involving the persons or vessels described in paragraph (b) of this general license that are prohibited by the Global Terrorism Sanctions Regulations, 31 CFR part 594 (GTSR), are authorized through 12:01 a.m. eastern standard time, January 14, 2023, provided that any payment to a blocked person must be made into a blocked account in accordance with the GTSR:

(1) The safe docking and anchoring of any of the blocked vessels listed in paragraph (b) of this general license (“blocked vessels”) in port;

(2) The preservation of the health or safety of the crew of any of the blocked vessels; and

(3) Emergency repairs of any of the blocked vessels or environmental mitigation or protection activities relating to any of the blocked vessels.

(b) The authorization in paragraph (a) of this general license applies to the following blocked persons and vessels listed on the Office of Foreign Assets Control's Specially Designated Nationals and Blocked Persons List and any entity in which any of the following persons own, directly or indirectly, a 50 percent or greater interest:

• Artemov, Victor Sergioyovich

○ BOCEANICA, IMO 9267132

○ ZEPHYR I (f.k.a. ZHEN I), IMO 9255880

• Azul Vista Shipping Corp.

○ JULIA A (f.k.a. AZUL), IMO 9236353

• Blue Berri Shipping Inc.

○ RAIN DROP, IMO 9233208

• Harbour Ship Management Limited

○ B LUMINOSA, IMO 9256016

○ BLUEFINS, IMO 9221657

○ BUENO, IMO 9282443

• Pontus Navigation Corp.

○ NOLAN (f.k.a. OSLO), IMO 9179701

• Technology Bright International Ltd.

○ YOUNG YONG, IMO 9194127

• Triton Navigation Corp.

○ ADISA, IMO 9304667

• Vista Clara Shipping Corp.

○ LARA I (f.k.a. CLARA), IMO 9231767

(c) This general license does not authorize:

(1) The entry into any new commercial contracts involving the property or interests in property of any of the blocked persons or vessels described in paragraph (b) of this general license, except as authorized by paragraph (a);

(2) The offloading of any cargo onboard any of the blocked vessels; or

(3) Any transactions otherwise prohibited by the GTSR, including transactions involving the property or interests in property of any person blocked pursuant to the GTSR, other than the blocked persons described in paragraph (b) of this general license, unless separately authorized.

(d) Effective December 14, 2022, General License No. 21, dated November 15, 2022, is replaced and superseded in its entirety by this General License No. 21A.

Andrea M. Gacki,

Director, Office of Foreign Assets Control.

Dated: December 14, 2022.

Office of Foreign Assets Control

Global Terrorism Sanctions Regulations

31 CFR Part 594

General License No. 21B

Authorizing Limited Safety and Environmental Transactions Involving Certain Vessels

(a) Except as provided in paragraph (c) of this general license, all transactions that are ordinarily incident and necessary to one of the following activities involving the persons or vessels described in paragraph (b) of this general license that are prohibited by the Global Terrorism Sanctions Regulations, 31 CFR part 594 (GTSR), are authorized through 12:01 a.m. eastern daylight time, April 13, 2023, provided that any payment to a blocked person must be made into a blocked account in accordance with the GTSR:

(1) The safe docking and anchoring of any of the blocked vessels listed in paragraph (b) of this general license (“blocked vessels”) in port;

(2) The preservation of the health or safety of the crew of any of the blocked vessels; and

(3) Emergency repairs of any of the blocked vessels or environmental mitigation or protection activities relating to any of the blocked vessels.

(b) The authorization in paragraph (a) of this general license applies to the following blocked persons and vessels listed on the Office of Foreign Assets Control's Specially Designated Nationals and Blocked Persons List and any entity in which any of the following persons own, directly or indirectly, a 50 percent or greater interest:

• Artemov, Victor Sergioyovich

○ BOCEANICA, IMO 9267132

○ ZEPHYR I (f.k.a. ZHEN I), IMO 9255880

• Azul Vista Shipping Corp.

○ JULIA A (f.k.a. AZUL), IMO 9236353

• Blue Berri Shipping Inc.

○ RAIN DROP, IMO 9233208

• Harbour Ship Management Limited

○ B LUMINOSA, IMO 9256016

○ BLUEFINS, IMO 9221657

○ BUENO, IMO 9282443

• Pontus Navigation Corp.

○ NOLAN (f.k.a. OSLO), IMO 9179701

• Technology Bright International Ltd.

○ YOUNG YONG, IMO 9194127

• Triton Navigation Corp.

○ ADISA, IMO 9304667

• Vista Clara Shipping Corp.

○ LARA I (f.k.a. CLARA), IMO 9231767

(c) This general license does not authorize:

(1) The entry into any new commercial contracts involving the property or interests in property of any of the blocked persons or vessels described in paragraph (b) of this general license, except as authorized by paragraph (a);

(2) The offloading of any cargo onboard any of the blocked vessels; or

(3) Any transactions otherwise prohibited by the GTSR, including transactions involving the property or interests in property of any person blocked pursuant to the GTSR, other than the blocked persons described in paragraph (b) of this general license, unless separately authorized.

(d) Effective January 12, 2023, General License No. 21A, dated December 14, 2022, is replaced and superseded in its entirety by this General License No. 21B.

Andrea M. Gacki,

Director, Office of Foreign Assets Control.

Dated: December 14, 2022.

Andrea M. Gacki,
Director, Office of Foreign Assets Control.

[FR Doc. 2023-03074 Filed 2-13-23; 8:45 am]

BILLING CODE 4810-AL-P